DEPARTMENT OF ENERGY

Notice of Orders Issued Under Section 3 of the Natural Gas Act During March 2020

| FE Docket Nos.
OVINTIV MARKETING INC. | 20-08-NG; 19-47-NG
IRVING OIL COMMERCIAL GP | 20-18-NG
NORTHWEST NATURAL GAS COMPANY | 20-19-NG
SHELL NA LNG LLC | 20-15-LNG
POWEREX CORP | 20-16-NG
CENTRAL LOMAS DE REAL, S.A. DE C.V | 20-17-NG
GOLDEN PASS LNG TERMINAL LLC) (Formerly GOLDEN PASS PRODUCTS LLC | 12-88-LNG; 12-156-LNG; 18-06-LNG
PEMCORP, S.A.P.I. DE C.V | 20-21-NG
ENGELHART CTP (US) LLC | 20-25-NG
SHELL ENERGY NORTH AMERICA (US) L.P | 20-24-NG
MERRILL LYNCH COMMODITIES CANADA, ULC | 20-26-NG
TUSCAROWA TRADING, LLC | 19-72-NG
ALTAGAS LTD | 19-83-NG
PROMETHEUS ENERGY GROUP INC | 20-27-LNG
IRVING OIL COMMERCIAL GP | 20-18-NG
SANTA FE GAS | 20-29-NG

AGENCY: Office of Fossil Energy, Department of Energy.

ACTION: Notice of orders.

SUMMARY: The Office of Fossil Energy (FE) of the Department of Energy gives notice that during March 2020, it issued orders granting authority to import and export natural gas, to import and export liquefied natural gas (LNG), to vacate authorization, to transfer authorization, request for extension of export commencement deadlines, and errata. These orders are summarized in the attached appendix and may be found on the FE website at https://www.energy.gov/fe/listing-doefe-authorizationsorders-issued-2020.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on April 27, 2020.
Amy Sweeney,
Director, Office of Regulation, Analysis, and Engagement, Office of Oil and Natural Gas.

Appendix

DOE/FE Orders Granting Import/Export Authorizations
4507; 4382-A | 03/02/20 | 20-08-NG; 19-47-NG | Ovintiv Marketing Inc. | Order 4507 granting blanket authority to import natural gas from Canada, and vacating prior authorization (Order 4382-A)
4509 | 03/02/20 | 20-18-NG | Irving Oil Commercial GP | Order 4509 granting blanket authority to export natural gas to Canada.
4510 | 03/02/20 | 20-19-NG | Northwest Natural Gas Company | Order 4510 granting blanket authority to import/export natural gas from/to Canada.
4511 | 03/02/20 | 20-15-LNG | Shell NA LNG LLC | Order 4511 granting blanket authority to import LNG from various international sources by vessel.
4512 | 03/02/20 | 20-16-NG | Powerex Corp | Order 4512 granting blanket authority to import/export natural gas from/to Canada/Mexico.
4513 | 03/02/20 | 20-17-NG | Central Lomas de Real, S.A. de C.V | Order 4513 granting blanket authority to import/export natural gas from/to Mexico.
3147-A; 3978-B; 4146-A | 03/04/20 | 12-88-LNG; 12-156-LNG; 18-06-LNG | Golden Pass LNG Terminal LLC (Formerly Golden Pass Products LLC) | Order 3147-A granting request to transfer authorizations and responding to change in control (Orders 3978-B and 4146-A).
4514 | 03/13/20 | 20-21-NG | Pemcorp, S.A.P.I. de C.V | Order 4514 granting blanket authority to export natural gas to Mexico.
4515 | 03/13/20 | 20-25-NG | Engelhart CTP (US) LLC | Order 4515 granting blanket authority to import/export natural gas from/to Canada/Mexico.
4516 | 03/13/20 | 20-24-NG | Shell Energy North America (US), L.P | Order 4516 granting blanket authority to import/export natural gas from/to Canada/Mexico, to import LNG from various international sources by vessel, and to import/export LNG from/to Canada/Mexico by vessel.
4517 | 03/13/20 | 20-26-NG | Merrill Lynch Commodities Canada, ULC | Order 4517 granting blanket authority to export natural gas to Canada.
4404-A | 03/13/20 | 19-72-NG | Tuscarowa Trading, LLC | Order 4501 granting blanket authority to import natural gas from Canada.
4437-A | 03/13/20 | 19-83-NG | Altagas Ltd. | Order 4437-A vacating blanket authority to import/export natural gas from/to Canada.
3147-B; 3978-C | 03/24/20 | 12-88-LNG; 12-156-LNG | Golden Pass LNG Terminal LLC | Orders 3147-B and 3978-C granting request for extension of export commencement deadlines.
4518 | 03/25/20 | 20-27-LNG | Prometheus Energy Group Inc | Order 4518 granting blanket authority to import/export LNG from/to Canada/Mexico by truck, to export LNG to Canada/Mexico by vessel, and to import LNG from various international sources by vessel.
Errata 4509-A | 03/25/20 | 20-18-NG | Irving Oil Commercial GP | Order 4509 Errata Notice.
4522 | 03/31/20 | 20-29-NG | Santa Fe Gas | Order 4522 granting blanket authority to import/export natural gas from/to Mexico.

[FR Doc. 2020-09271 Filed 4-30-20; 8:45 am]

BILLING CODE 6450-01-P